DEPARTMENT OF HOMELAND SECURITY

Coast Guard

33 CFR Part 117

[Docket No. USCG-2013-0828]

Drawbridge Operation Regulation; Upper Mississippi River, Hannibal, MO

AGENCY: Coast Guard, DHS.

ACTION: Notice of deviation from drawbridge regulation.

SUMMARY: The Coast Guard has issued a temporary deviation from the operating schedule that governs the Hannibal Railroad Drawbridge across the Upper Mississippi River, mile 309.9, at Hannibal, Missouri. The deviation is necessary to allow the bridge owner time to replace critical control components that are essential to the continued safe operation of the drawbridge. The work is scheduled in the winter, when the impact on navigation is minimal, instead of scheduling the work at other times in the year, when river traffic is prevalent. This deviation allows the bridge to remain in the closed-to-navigation position for 39 days.

DATES: This deviation is effective from 7 a.m., January 7, 2014 to 5 p.m., February 14, 2014.

ADDRESSES: The docket for this deviation, [USCG-2013-0828], is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Eric A. Washburn, Bridge Administrator, Western Rivers, Coast Guard; telephone (314) 269-2378, email Eric.Washburn@uscg.mil. If you have questions on viewing the docket, call Barbara Hairston, Program Manager, Docket Operations, telephone (202) 366-9826.

SUPPLEMENTARY INFORMATION: The Norfolk Southern Railroad requested a temporary deviation for the Hannibal Railroad Drawbridge, mile 309.9, at Hannibal, Missouri across the Upper Mississippi River. It has a vertical clearance of 21.1 feet above normal pool in the closed position. The Hannibal Railroad Drawbridge currently operates in accordance with 33 CFR 117.5, which states the general requirement that drawbridges shall open promptly and fully for the passage of vessels when a request to open is given in accordance with the subpart.

The deviation period is from 7 a.m., January 7, 2014 to 5 p.m., February 14, 2014 when the draw span will remain in the closed-to-navigation position. During this time the bridge owner will replace critical control components that are essential to the continued safe operation of the drawbridge. The bridge will not be able to open for emergencies and there is no immediate alternate route for vessels to pass this section of the Upper Mississippi River. The Coast Guard will also inform the users of the waterway through our Local and Broadcast Notices to Mariners of the change in operating schedule for the bridge so that vessels can arrange their transits to minimize any impact caused by the temporary deviation.

Winter conditions on the Upper Mississippi River coupled with the closure of Army Corps of Engineer's Lock No. 18 (Mile 410.5 UMR) and Lock No. 22 (Mile 301.2 UMR) till 11 a.m., March 4, 2014 will preclude any significant navigation demands for the drawspan opening.

In accordance with 33 CFR 117.35(e), the drawbridge must return to its regular operating schedule immediately at the end of the effective period of this temporary deviation. This deviation from the operating regulations is authorized under 33 CFR 117.35.

Dated: September 24, 2013.
Eric A. Washburn,
Bridge Administrator, Western Rivers.

[FR Doc. 2013-25635 Filed 10-29-13; 8:45 am]

BILLING CODE 9110-04-P